DEPARTMENT OF COMMERCE

Foreign-Trade Zones Board

[B-67-2015]

Foreign-Trade Zone (FTZ) 183—Austin, Texas; Notification of Proposed Production Activity; Flextronics America, LLC (Automatic Data Processing Machines); Austin, Texas

Flextronics America, LLC (Flextronics) submitted a notification of proposed production activity to the FTZ Board for its facility in Austin, Texas within Subzone 183C. The notification conforming to the requirements of the regulations of the FTZ Board (15 CFR 400.22) was received on October 9, 2015.

Flextronics already has authority to produce automatic data processing machines within Subzone 183C. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt Flextronics from customs duty payments on the foreign status materials/components used in export production. On its domestic sales, Flextronics would be able to choose the duty rates during customs entry procedures that apply to: Video card subassemblies; CPU and video card connector subassemblies; external power and USB port card subassemblies; main controller board subassemblies; and, internal power supply subassemblies (duty-free) for the foreign status materials/components noted below and in the existing scope of authority. Customs duties also could possibly be deferred or reduced on foreign status production equipment.

The materials/components sourced from abroad include: Copper alloy screws; and, lithium batteries (duty rate ranges from 3.0 to 3.4%).

Public comment is invited from interested parties. Submissions shall be addressed to the Board's Executive Secretary at the address below. The closing period for their receipt is November 30, 2015.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whitman at Elizabeth.Whiteman@trade.gov or (202) 482-0473.

Dated: October 13, 2015.
Andrew McGilvray,
Executive Secretary.

[FR Doc. 2015-26635 Filed 10-19-15; 8:45 am]

BILLING CODE 3510-DS-P